FEDERAL COMMUNICATIONS COMMISSION

47 CFR Part 73

[DA 02-3455; MB Docket No. 02-26; RM-10362]

Radio Broadcasting Services; Bridgeton and Elmer, NJ

AGENCY: Federal Communications Commission.

ACTION: Proposed rule, dismissal.

SUMMARY: In this document, the Commission dismisses the petition for rulemaking filed by Cohanzick Broadcasting Corporation requesting the reallotment of Channel 299B from Bridgeton, New Jersey, to Elmer, New Jersey. Petitioner, by filing amended proposal requesting the substitution of Channel 300A for 299B at Bridgeton and reallotment of Channel 300A from Bridgeton to Pennsauken, New Jersey, has abandoned interest in original proposal.

FOR FURTHER INFORMATION CONTACT: Victoria M. McCauley, Media Bureau, (202) 418-2180.

SUPPLEMENTARY INFORMATION: This is a synopsis of the Commission's Report and Order, MB Docket No. 02-26, adopted December 4, 2002, and released December 6, 2002. The full text of this Commission decision is available for inspection and copying during normal business hours in the FCC Reference Center (Room 239), 445 12th Street, SW, Washington, DC. This document may also be purchased from the Commission's duplicating contractor, Qualex International, Portals II, 445 12th Street, SW, Room CY-B402, Washington, DC, 20554, telephone 202-863-2893, facsimile 202-863-2898, or via e-mail qualexint@aol.com.

Federal Communications Commission.
John A. Karousos,
Assistant Chief, Audio Division, Media Bureau.

[FR Doc. 03-166 Filed 1-3-03; 8:45 am]

BILLING CODE 6712-01-P